ENVIRONMENTAL PROTECTION AGENCY

[FRL-7579-9]

Gulf of Mexico Program Policy Review Board Meeting

AGENCY: Environmental Protection Agency ( EPA).

ACTION: Notice of meeting.

SUMMARY: Under the Federal Advisory Committee Act (Public Law 92-463), EPA gives notice of a meeting of the Gulf of Mexico Program (GMP) Policy Review Board (PRB).

DATES: The meeting will be held on Tuesday, November 18, 2003, from 8:30 a.m. to 3 p.m.

ADDRESSES: The meeting will be held at the Renaissance Grand Hotel, 800 Washington Avenue, St. Louis, MO 63101 (314-621-9600).

FOR FURTHER INFORMATION CONTACT: Gloria D. Car, Designated Federal Officer, Gulf of Mexico Program Office, Mail Code EPA/GMPO, Stennis Space Center, MS 39529-6000 at (228) 688-2421.

SUPPLEMENTARY INFORMATION: Proposed agenda includes FY 2003 Gulf of Mexico Program Accomplishments, Executive Order Status and Update, Briefings on Emerging Initiatives: PEW Commission Report, Ocean Commission Report, U.S. Mexico Gulf Programs Integration, White Water to Blue Water, Gulf Hypoxia, FY 2004 Program Workplan Overview. The meeting is open to the public.

Dated: October 22, 2003.
Gloria D. Car,
Designated Federal Officer.

[FR Doc. 03-27271 Filed 10-28-03; 8:45 am]

BILLING CODE 6560-50-P